DEPARTMENT OF DEFENSE

Defense Acquisition Regulations System

[Docket Number DARS-2019-0021; OMB Control Number 0704-0549]

Information Collection Requirement; Defense Federal Acquisition Regulation Supplement (DFARS); Submission for OMB Review; Defense Contractors Performing Private Security Functions Outside the United States; Comment Request

AGENCY: Defense Acquisition Regulations System, Department of Defense (DoD).

ACTION: Notice.

SUMMARY: The Defense Acquisition Regulations System has submitted to OMB for clearance, the following proposed extension of collection of information under the provisions of the Paperwork Reduction Act.

DATES: Consideration will be given to all comments received by September 30, 2019.

SUPPLEMENTARY INFORMATION:

Title and OMB Number: Defense Federal Acquisition Regulation Supplement (DFARS) Defense Contractors Performing Private Security Functions Outside the United States; OMB Control Number 0704-0549.

Needs and Uses: Geographic combatant commanders are required by statute to establish procedures and assign responsibilities for ensuring that contractors and contractor personnel report certain security incidents when performing private security functions in covered operational areas. The clause at DFARS 252.225-7039, Defense Contractors Performing Private Security Functions Outside the United States, requires contractors and subcontractors performing private security functions in designated operational areas outside the United States to comply with 32 CFR 159 and any orders, directives, and instructions contained in the contract. Geographic combatant commanders use the information reported by private security contractors on security incidents in order to properly account for and track contractor personnel and assets in theater and to respond to security incidents as deemed necessary.

Affected Public: Business entities.

Respondent's Obligation: Required to obtain or retain benefits.

Frequency: On occasion.

Type of Request: Renewal of a currently approved collection.

Number of Respondents: 12.

Responses per Respondent: 4.

Annual Responses: 48.

Average Burden per Response: .5 hour.

Annual Burden Hours: 24.

Reporting Frequency: On Occasion

OMB Desk Officer: Ms. Jasmeet Seehra.

Comments and recommendations on the proposed information collection should be sent to Ms. Jasmeet Seehra, DoD Desk Officer, at Oira_submission@omb.eop.gov. Please identify the proposed information collection by DoD Desk Officer and the Docket ID number and title of the information collection

You may also submit comments, identified by docket number and title, by the following method:

Federal eRulemaking Portal: http://www.regulations.gov. Follow the instructions for submitting comments.

DoD Clearance Officer: Ms. Angela James.

Written requests for copies of the information collection proposal should be sent to Ms. James at whs.mc-alex.esd.mbx.dd-dod-information-collections@mail.mil.

Jennifer Lee Hawes,
Regulatory Control Officer, Defense Acquisition Regulations System.

[FR Doc. 2019-18824 Filed 8-29-19; 8:45 am]

BILLING CODE 5001-06-P